DEPARTMENT OF COMMERCE

National Oceanic and Atmospheric Administration

[Docket No. 000803225-0326-02; I.D. 062900B]

RIN 0648-AO34

American Shad; Interstate Fishery Management Plans; Cancellation of Moratorium

AGENCY: National Marine Fisheries Service (NMFS), National Oceanic and Atmospheric Administration (NOAA), Commerce.

ACTION: Notice of determination of compliance; cancellation of moratorium.

SUMMARY: The Secretary of Commerce (Secretary) announces the cancellation of the Federal moratorium on fishing for American shad in the coastal waters of the State of South Carolina that would have been implemented on January 5, 2001. The Secretary has canceled the moratorium as required by the Atlantic Coastal Fisheries Cooperative Management Act (Act), based on his determination that the State of South Carolina is now in compliance with the Atlantic States Marine Fisheries Commission’s (Commission) Interstate Fishery Management Plan (ISFMP) for Shad and River Herring, after the Commission had notified the Secretary that it was withdrawing its determination of noncompliance.

DATES: Effective December 12, 2000.

FOR FURTHER INFORMATION CONTACT: Richard H. Schaefer, Chief, Staff Office for Intergovernmental and Recreational Fisheries, NMFS, 301-427-2014.

SUPPLEMENTARY INFORMATION:

Background

On August 16, 2000, NMFS published a document in the Federal Register (65 FR 49969) announcing the Secretary’s determination that the State of South Carolina was not in compliance with the Commission's ISFMP for Shad and River Herring for not implementing and enforcing the 10-fish creel limit contained in the ISFMP for American shad. In the document a moratorium was declared on fishing for American shad in South Carolina state waters that would be made effective on January 5, 2001, if South Carolina was not found to be in compliance by December 15, 2000. Details were provided in the August 16, 2000, Federal Register document and are not repeated here.

The Act specifies that, if, after a moratorium is declared with respect to a State, the Secretary is notified by the Commission that it is withdrawing the determination of noncompliance, the Secretary shall immediately determine whether the State is in compliance with the applicable plan. If the State is determined to be in compliance, the moratorium shall be terminated.

Activities Pursuant to the Act

On November 7, 2000, the Secretary received a letter from the Commission prepared pursuant to the Act. The Commission's letter, dated November 6, 2000, stated that the State of South Carolina had taken corrective action to comply with the Commission’s ISFMP for Shad and River Herring, and, therefore, the Commission was withdrawing its determination of noncompliance.

Cancellation of the Moratorium

Based on the Commission's November 6, 2000, letter, information received from the State of South Carolina, and the Secretary’s review of South Carolina’s revised regulations, the Secretary concurs with the Commission’s determination that South Carolina is now in compliance with the Commission's ISFMP for Shad and River Herring. The State has adopted a creel limit of 10 American shad in all watersheds except one. In that one watershed the 10-fish creel compliance requirement has been met through the imposition of management measures that provide conservation equivalency. Therefore, the moratorium on fishing for American shad in South Carolina waters is canceled.

Dated: December 6, 2000.
William T. Hogarth,
Deputy Assistant Administrator for Fisheries, National Marine Fisheries Service.

[FR Doc. 00-31626 Filed 12-11-00; 8:45 am]

BILLING CODE 3510-22-S